DEPARTMENT OF HOMELAND SECURITY

Federal Emergency Management Agency

44 CFR Part 64

[Docket No. FEMA-8043]

Suspension of Community Eligibility

AGENCY: Federal Emergency Management Agency, Department of Homeland Security.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation proving the community has adopted the required floodplain management measures prior to the effective suspension date given in this rule, the suspension will not occur and a notice will be provided by publication in the Federal Register on a subsequent date.

DATES: Effective Dates: The effective date of the scheduled suspension for each community is the third date (“Susp.”) listed in the third column of the following tables.

FOR FURTHER INFORMATION CONTACT: If you want to determine whether a particular community was suspended on the suspension date or obtain additional information, contact David Stearrett, FEMA, Mitigation Directorate, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet the statutory requirement for compliance with program regulations, 44 CFR Part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

Previously, FEMA identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP, if they have been identified as having floodprone areas on the initial FEMA flood map for the community for more than a year (section 202(a) of the Flood Disaster Protection Act of 1973, 42 U.S.C. 4106(a), as amended). This prohibition against certain types of Federal assistance becomes effective for the communities listed on the date shown in the last column. The Administrator finds the notice and public comment under 5 U.S.C. 553(b) are impracticable and unnecessary because the communities listed in this final rule have been adequately notified.

Each community receives 6-month, 90-day, and 30-day notification letters addressed to the Chief Executive Officer stating the community will be suspended unless the required floodplain management measures are met prior to the effective suspension date. Since these notifications were made, this final rule may take effect within 30 days.

National Environmental Policy Act. This rule is categorically excluded from the requirements of 44 CFR Part 10, Environmental Considerations. No environmental impact assessment has been prepared.

Regulatory Flexibility Act. The Administrator has determined this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Connecticut:
Avon, Town of, Hartford County | 090021 | October 6, 1972, Emerg; May 16, 1977, Reg; September 26, 2008, Susp. | Sept. 26, 2008 | Sept. 26, 2008.
Bloomfield, Town of, Hartford County | 090122 | February 18, 1972, Emerg; August 15, 1977, Reg; September 26, 2008, Susp. | ......do | Do.
Bristol, City of, Hartford County | 090023 | May 2, 1975, Emerg; November 18, 1981, Reg; September 26, 2008, Susp. | ......do | Do.
Burlington, Town of, Hartford County | 090145 | April 14, 1975, Emerg; June 1, 1981, Reg; September 26, 2008, Susp. | ......do | Do.
East Granby, Town of, Hartford County | 090025 | April 9, 1974, Emerg; January 6, 1982, Reg; September 26, 2008, Susp. | ......do | Do.
East Hartford, Town of, Hartford County | 090026 | December 29, 1972, Emerg; December 18, 1979, Reg; September 26, 2008, Susp. | ......do | Do.
Enfield, Town of, Hartford County | 090028 | April 4, 1974, Emerg; March 28, 1980, Reg; September 26, 2008, Susp. | ......do | Do.
Farmington, Town of, Hartford County | 090029 | November 26, 1971, Emerg; August 15, 1977, Reg; September 26, 2008, Susp. | ......do | Do.
Glastonbury, Town of, Hartford County | 090124 | December 15, 1972, Emerg; June 15, 1978, Reg; September 26, 2008, Susp. | ......do | Do.
Hartland, Town of, Hartford County | 090146 | January 14, 1975, Emerg; December 16, 1980, Reg; September 26, 2008, Susp. | ......do | Do.
Manchester, Town of, Hartford County | 090031 | February 5, 1974, Emerg; August 16, 1982, Reg; September 26, 2008, Susp. | ......do | Do.
Marlborough, Town of, Hartford County | 090148 | February 5, 1975, Emerg; May 17, 1982, Reg; September 26, 2008, Susp. | ......do | Do.
New Britain, City of, Hartford County | 090032 | August 22, 1973, Emerg; July 16, 1981, Reg; September 26, 2008, Susp. | ......do | Do.
Newington, Town of, Hartford County | 090033 | July 2, 1974, Emerg; October 16, 1979, Reg; September 26, 2008, Susp. | ......do | Do.
Plainville, Town of, Hartford County | 090034 | May 29, 1974, Emerg; November 19, 1980, Reg; September 26, 2008, Susp. | ......do | Do.
Simsbury, Town of, Hartford County | 090035 | December 10, 1971, Emerg; May 16, 1977, Reg; September 26, 2008, Susp. | ......do | Do.
South Windsor, Town of, Hartford County | 090036 | July 25, 1974, Emerg; May 1, 1980, Reg; September 26, 2008, Susp. | ......do | Do.
West Hartford, Town of, Hartford County | 095082 | June 19, 1970, Emerg; September 24, 1971, Reg; September 26, 2008, Susp. | ......do | Do.
Wethersfield, Town of, Hartford County | 090040 | April 14, 1972, Emerg; May 2, 1977, Reg; September 26, 2008, Susp. | ......do | Do.
Windsor, Town of, Hartford County | 090041 | June 25, 1975, Emerg; September 29, 1978, Reg; September 26, 2008, Susp. | ......do | Do.
Region II
New York:
Buffalo, City of, Erie County | 360230 | January 16, 1974, Emerg; November 18, 1981, Reg; September 26, 2008, Susp. | ......do | Do.
Gowanda, Village of, Erie County | 360075 | June 23, 1972, Emerg; June 1, 1977, Reg; September 26, 2008, Susp. | ......do | Do.
Holland, Town of, Erie County | 360245 | July 23, 1975, Emerg; May 1, 1979, Reg; September 26, 2008, Susp. | ......do | Do.
Tonawanda, City of, Erie County | 360259 | August 21, 1974, Emerg; August 1, 1979, Reg; September 26, 2008, Susp. | ......do | Do.
Wales, Town of, Erie County | 360261 | July 23, 1975, Emerg; August 15, 1979, Reg; September 26, 2008, Susp. | ......do | Do.
Williamsville, Village of, Erie County | 360263 | July 12, 1974, Emerg; March 1, 1982, Reg; September 26, 2008, Susp. | ......do | Do.
Region III
Pennsylvania:
Allison, Township, Clinton County | 421534 | November 11, 1975, Emerg; September 3, 1980, Reg; September 26, 2008, Susp. | ......do | Do.
Avis, Borough, Clinton County | 420318 | June 4, 1973, Emerg; January 16, 1980, Reg; September 26, 2008, Susp. | ......do | Do.
Bald Eagle, Township, Clinton County | 420319 | May 22, 1973, Emerg; February 4, 1981, Reg; September 26, 2008, Susp. | ......do | Do.
Beech Creek, Borough, Clinton County | 420320 | June 3, 1974, Emerg; August 2, 1990, Reg; September 26, 2008, Susp. | ......do | Do.
Beech Creek, Township, Clinton County | 420321 | August 30, 1973, Emerg; September 5, 1990, Reg; September 26, 2008, Susp. | ......do | Do.
Castanea, Township, Clinton County | 420322 | April 10, 1973, Emerg; February 2, 1977, Reg; September 26, 2008, Susp. | ......do | Do.
Chapman, Township, Clinton County | 420323 | August 29, 1973, Emerg; December 18, 1979, Reg; September 26, 2008, Susp. | ......do | Do.
Colebrook, Township, Clinton County | 420342 | July 25, 1973, Emerg; June 15, 1981, Reg; September 26, 2008, Susp. | ......do | Do.
Crawford, Township, Clinton County | 421535 | March 17, 1977, Emerg; September 1, 1986, Reg; September 26, 2008, Susp. | ......do | Do.
Dunnstable, Township, Clinton County | 420325 | May 23, 1973, Emerg; March 1, 1977, Reg; September 26, 2008, Susp. | ......do | Do.
East Keating, Township, Clinton County | 421536 | December 12, 1974, Emerg; October 1, 1986, Reg; September 26, 2008, Susp. | ......do | Do.
Flemington, Borough, Clinton County | 420326 | March 9, 1973, Emerg; February 2, 1977, Reg; September 26, 2008, Susp. | ......do | Do.
Gallagher, Township, Clinton County | 421537 | July 21, 1982, Emerg; September 1, 1986, Reg; September 26, 2008, Susp. | ......do | Do.
Greene, Township, Clinton County | 421538 | October 14, 1975, Emerg; September 1, 1986, Reg; September 26, 2008, Susp. | ......do | Do.
Grugan, Township, Clinton County | 421539 | April 6, 1977, Emerg; December 1, 1986, Reg; September 26, 2008, Susp. | ......do | Do.
Lamar, Township, Clinton County | 420327 | July 9, 1973, Emerg; March 16, 1988, Reg; September 26, 2008, Susp. | ......do | Do.
Leidy, Township, Clinton County | 421540 | February 17, 1977, Emerg; September 1, 1986, Reg; September 26, 2008, Susp. | ......do | Do.
Lock Haven, City, Clinton County | 420328 | November 17, 1972, Emerg; February 2, 1977, Reg; September 26, 2008, Susp. | ......do | Do.
Logan, Township, Clinton County | 421541 | October 14, 1975, Emerg; May 1, 1986, Reg; September 26, 2008, Susp. | ......do | Do.
Loganton, Township, Clinton County | 421533 | September 8, 1982, Emerg; September 1, 1986, Reg; September 26, 2008, Susp. | ......do | Do.
Mill Hall, Borough, Clinton County | 420330 | April 17, 1973, Emerg; February 16, 1977, Reg; September 26, 2008, Susp. | ......do | Do.
Noyes, Township, Clinton County | 420331 | July 27, 1973, Emerg; November 5, 1980, Reg; September 26, 2008, Susp. | ......do | Do.
Pine Creek, Township, Clinton County | 420332 | April 24, 1973, Emerg; April 1, 1977, Reg; September 26, 2008, Susp. | ......do | Do.
Porter, Township, Clinton County | 420333 | June 1, 1973, Emerg; July 15, 1988, Reg; September 26, 2008, Susp. | ......do | Do.
Renovo, Borough, Clinton County | 420334 | February 9, 1973, Emerg; December 28, 1976, Reg; September 26, 2008, Susp. | ......do | Do.
South Renovo, Borough, Clinton County | 420335 | June 18, 1974, Emerg; February 2, 1977, Reg; September 26, 2008, Susp. | ......do | Do.
Wayne, Township, Clinton County | 420336 | June 3, 1974, Emerg; November 1, 1979, Reg; September 26, 2008, Susp. | ......do | Do.
West Keating, Township, Clinton County | 421542 | June 15, 1982, Emerg; October 1, 1986, Reg; September 26, 2008, Susp. | ......do | Do.
Woodward, Township, Clinton County | 420337 | March 16, 1973, Emerg; January 16, 1980, Reg; September 26, 2008, Susp. | ......do | Do.
Virginia:
Henry County, Unincorporated Areas | 510078 | October 18, 1973, Emerg; November 5, 1980, Reg; September 26, 2008, Susp. | ......do | Do.
Pulaski, Town, Pulaski County | 510126 | November 8, 1973, Emerg; August 1, 1978, Reg; September 26, 2008, Susp. | ......do | Do.
Pulaski County, Unincorporated Areas | 510125 | September 27, 1973, Emerg; September 29, 1978, Reg; September 26, 2008, Susp. | ......do | Do.
Ridgeway, Town, Henry County | 510079 | June 10, 1975, Emerg; November 6, 1981, Reg; September 26, 2008, Susp. | ......do | Do.
Region IV
Georgia:
Allenhurst, Town of, Liberty County | 130350 | May 6, 1975, Emerg; June 17, 1986, Reg; September 26, 2008, Susp. | ......do | Do.
Aragon, City of, Polk County | 130152 | December 19, 1973, Emerg; September 2, 1988, Reg; September 26, 2008, Susp. | ......do | Do.
Buchanan, City of, Haralson County | 130336 | April 9, 1976, Emerg; December 15, 1990, Reg; September 26, 2008, Susp. | ......do | Do.
Byron, City of, Peach County | 130374 | January 15, 1976, Emerg; July 3, 1986, Reg; September 26, 2008, Susp. | ......do | Do.
Carnesville, City of, Franklin County | 130082 | June 4, 1975, Emerg; September 4, 1985, Reg; September 26, 2008, Susp. | ......do | Do.
Chattooga County, Unincorporated Areas | 130036 | April 13, 1989, Emerg; February 17, 1993, Reg; September 26, 2008, Susp. | ......do | Do.
Crawford County, Unincorporated Areas | 130302 | August 12, 1997, Emerg; August 12, 1997, Reg; September 26, 2008, Susp. | ......do | Do.
Dahlonega, City of, Lumpkin County | 130129 | December 17, 1976, Emerg; September 18, 1991, Reg; September 26, 2008, Susp. | ......do | Do.
Dawson County, Unincorporated Areas | 130304 | April 29, 1985, Emerg; December 15, 1990, Reg; September 26, 2008, Susp. | ......do | Do.
Dawsonville, City of, County | 130064 | March 14, 1977, Emerg; May 21, 1982, Reg; September 26, 2008, Susp. | ......do | Do.
Eatonton, City of, Putnam County | 130218 | July 3, 1975, Emerg; June 19, 1989, Reg; September 26, 2008, Susp. | ......do | Do.
Flemington, City of, Liberty County | 130124 | November 27, 1982, Emerg; May 17, 1982, Reg; September 26, 2008, Susp. | ......do | Do.
Forsyth, City of, Monroe County | 130359 | August 12, 1994, Emerg; —, Reg; September 26, 2008, Susp. | ......do | Do.
Fort Valley, City of, Peach County | 130148 | March 13, 1975, Emerg; June 25, 1976, Reg; September 26, 2008, Susp. | ......do | Do.
Franklin County, Unincorporated Areas | 130659 | September 19, 2005, Emerg; —, Reg; September 26, 2008, Susp. | ......do | Do.
Franklin Springs, City of, Franklin County | 130313 | March 11, 1980, Emerg; May 28, 1982, Reg; September 26, 2008, Susp. | ......do | Do.
Hahira, City of, Lowndes County | 130352 | May 5, 1976, Emerg; May 15, 1986, Reg; September 26, 2008, Susp. | ......do | Do.
Haralson County, Unincorporated Areas | 130495 | January 16, 1987, Emerg; June 15, 1988, Reg; September 26, 2008, Susp. | ......do | Do.
Liberty County, Unincorporated Areas | 130123 | January 22, 1975, Emerg; December 1, 1983, Reg; September 26, 2008, Susp. | ......do | Do.
Long County, Unincorporated Areas | 130127 | January 7, 1976, Emerg; September 27, 1985, Reg; September 26, 2008, Susp. | ......do | Do.
Ludowici, City of, Long County | 130128 | May 21, 2007, Emerg; May 21, 2007, Reg; September 26, 2008, Susp. | ......do | Do.
Lumpkin County, Unincorporated Areas | 130354 | June 14, 2002, Emerg; June 14, 2002, Reg; September 26, 2008, Susp. | ......do | Do.
Midway, City of, Liberty County | 130351 | July 22, 1975, Emerg; September 30, 1981, Reg; September 26, 2008, Susp. | ......do | Do.
Peach County, Unincorporated Areas | 130373 | July 24, 1975, Emerg; July 3, 1990, Reg; September 26, 2008, Susp. | ......do | Do.
Plainville, City of, Gordon County | 130319 | February 4, 1976, Emerg; June 18, 1987, Reg; September 26, 2008, Susp. | ......do | Do.
Putnam County, Unincorporated Areas | 130540 | October 23, 1995, Emerg; —, Reg; September 26, 2008, Susp. | ......do | Do.
Riceboro, City of, Liberty County | 130126 | June 26, 1975, Emerg; November 4, 1981, Reg; September 26, 2008, Susp. | ......do | Do.
Roberta, City of, Crawford County | 130303 | March 22, 1976, Emerg; September 29, 1986, Reg; September 26, 2008, Susp. | ......do | Do.
Stephens County, Unincorporated Areas | 130391 | May 6, 1975, Emerg; August 15, 1984, Reg; September 26, 2008, Susp. | ......do | Do.
Summerville, City of, Chattooga County | 130037 | February 11, 1974, Emerg; August 15, 1984, Reg; September 26, 2008, Susp. | ......do | Do.
Thunderbolt, City of, Chatham County | 130460 | April 22, 1980, Emerg; July 2, 1987, Reg; September 26, 2008, Susp. | ......do | Do.
Toccoa, City of, Stephens County | 130313 | June 20, 1975, Emerg; December 4, 1984, Reg; September 26, 2008, Susp. | ......do | Do.
Valdosta, City of, Lowndes County | 130200 | December 17, 1973, Emerg; January 19, 1978, Reg; September 26, 2008, Susp. | ......do | Do.
Vernonburg, Village of, Chatham County | 135165 | March 19, 1971, Emerg; July 27, 1973, Reg; September 26, 2008, Susp. | ......do | Do.
South Carolina: Clover, Town of, York County | 450194 | July 7, 1975, Emerg; May 15, 1980, Reg; September 26, 2008, Susp. | ......do | Do.
Tennessee:
Carter County, Unincorporated Areas | 470024 | May 30, 1979, Emerg; January 3, 1990, Reg; September 26, 2008, Susp. | ......do | Do.
Elizabethton, City of, Carter County | 475425 | March 30, 1970, Emerg; March 30, 1970, Reg; September 26, 2008, Susp. | ......do | Do.
McMinnville, City of, Warren County | 470195 | January 15, 1974, Emerg; December 1, 1977, Reg; September 26, 2008, Susp. | ......do | Do.
Viola, Town of, Warren County | 470196 | April 9, 1975, Emerg; June 3, 1986, Reg; September 26, 2008, Susp. | ......do | Do.
Region V
Wisconsin:
Cudahy, City of, Milwaukee County | 550272 | May 30, 1975, Emerg; December 15, 1978, Reg; September 26, 2008, Susp. | ......do | Do.
Fox Point, Village of, Milwaukee County | 550274 | August 7, 1973, Emerg; May 16, 1977, Reg; September 26, 2008, Susp. | ......do | Do.
Franklin, City of, Milwaukee County | 550273 | December 29, 1972, Emerg; September 30, 1977, Reg; September 26, 2008, Susp. | ......do | Do.
Greendale, Village of, Milwaukee County | 550276 | May 23, 1975, Emerg; August 2, 1982, Reg; September 26, 2008, Susp. | ......do | Do.
Greenfield, Village of, Milwaukee County | 550277 | March 9, 1973, Emerg; June 1, 1978, Reg; September 26, 2008, Susp. | ......do | Do.
Hales Corners, Village of, Milwaukee County | 550524 | November 13, 1973, Emerg; June 15, 1979, Reg; September 26, 2008, Susp. | ......do | Do.
Oak Creek, City of, Milwaukee County | 550279 | August 20, 1973, Emerg; September 29, 1978, Reg; September 26, 2008, Susp. | ......do | Do.
River Hills, Village of, Milwaukee County | 550280 | June 12, 1974, Emerg; April 15, 1980, Reg; September 26, 2008, Susp. | ......do | Do.
Shorewood, Village of, Milwaukee County | 550283 | August 15, 1974, Emerg; August 11, 1978, Reg; September 26, 2008, Susp. | ......do | Do.
South Milwaukee, City of, Milwaukee County | 550283 | February 11, 1974, Emerg; April 15, 1980, Reg; September 26, 2008, Susp. | ......do | Do.
St. Francis, City of, Milwaukee County | 550281 | September 12, 1975, Emerg; July 7, 1978, Reg; September 26, 2008, Susp. | ......do | Do.
Wauwatosa, City of, Milwaukee County | 550284 | February 12, 1974, Emerg; December 1, 1978, Reg; September 26, 2008, Susp. | ......do | Do.
Whitefish Bay, Village of, Milwaukee County | 550286 | June 19, 1973, Emerg; May 1, 1987, Reg; September 26, 2008, Susp. | ......do | Do.
Region VI
Louisiana: Bossier, City of, Bossier Parrish | 220033 | June 26, 1974, Emerg; April 4, 1983, Reg; September 26, 2008, Susp. | ......do | Do.
Oklahoma:
Copan, Town of, Washington County | 400361 | July 12, 1976, Emerg; July 26, 1977, Reg; September 26, 2008, Susp. | ......do | Do.
Geary, City of, Canadian County | 400381 | October 28, 2004, Emerg; —, Reg; September 26, 2008, Susp. | ......do | Do.
Purcell, City of, Cleveland County | 400104 | November 21, 1975, Emerg; July 2, 1981, Reg; September 26, 2008, Susp. | ......do | Do.
Ramona, Town of, Washington County | 400222 | April 16, 1976, Emerg; March 31, 1988, Reg; September 26, 2008, Susp. | ......do | Do.
Texas:
Annetta South, Town of, Parker County | 481665 | November 1, 1999, Emerg; November 1, 1999, Reg; September 26, 2008, Susp. | ......do | Do.
Austin, City of, Travis County | 480624 | May 9, 1975, Emerg; September 2, 1981, Reg; September 26, 2008, Susp. | ......do | Do.
Bartlett, City of, Williamson County | 480707 | February 8, 1977, Emerg; March 25, 1985, Reg; September 26, 2008, Susp. | ......do | Do.
Bruceville-Eddy, City of, McLennan County | 481302 | October 4, 2004, Emerg; October 4, 2004, Reg; September 26, 2008, Susp. | ......do | Do.
Cedar Park, City of, Williamson County | 481282 | June 4, 1981, Emerg; September 27, 1991, Reg; September 26, 2008, Susp. | ......do | Do.
Dallas, City of, Dallas County | 480171 | June 30, 1970, Emerg; March 16, 1983, Reg; September 26, 2008, Susp. | ......do | Do.
Garland, City of, Dallas County | 485471 | August 7, 1970, Emerg; April 16, 1971, Reg; September 26, 2008, Susp. | ......do | Do.
Georgetown, City of, Williamson County | 480668 | June 3, 1974, Emerg; September 27, 1991, Reg; September 26, 2008, Susp. | ......do | Do.
Harker Heights, City of, Bell County | 480029 | November 27, 1974, Emerg; August 3, 1981, Reg; September 26, 2008, Susp. | ......do | Do.
Heath, City of, Rockwall County | 480545 | November 11, 1977, Emerg; February 1, 1980, Reg; September 26, 2008, Susp. | ......do | Do.
Hewitt, City of, McLennan County | 480458 | March 25, 1977, Emerg; May 1, 1978, Reg; September 26, 2008, Susp. | ......do | Do.
Holland, City of, Bell County | 480030 | May 27, 1975, Emerg; August 3, 1981, Reg; September 26, 2008, Susp. | ......do | Do.
Killeen, City of, Bell County | 480031 | December 10, 1974, Emerg; August 3, 1981, Reg; September 26, 2008, Susp. | ......do | Do.
Lacy-Lakeview, City of, McLennan County | 480927 | January 26, 1978, Emerg; October 9, 1979, Reg; September 26, 2008, Susp. | ......do | Do.
Lago Vista, City of, Travis County | 481588 | January 29, 1976, Emerg; April 1, 1982, Reg; September 26, 2008, Susp. | ......do | Do.
Lakeway, City of, Travis County | 481303 | June 27, 1977, Emerg; November 5, 1980, Reg; September 26, 2008, Susp. | ......do | Do.
Little River-Academy, City of, Bell County | 481579 | August 23, 1983, Emerg; May 1, 1984, Reg; September 26, 2008, Susp. | ......do | Do.
Manor, City of, Travis County | 481027 | June 13, 1975, Emerg; May 25, 1978, Reg; September 26, 2008, Susp. | ......do | Do.
Mart, City of, McLennan County | 480929 | August 9, 1979, Emerg; August 9, 1979, Reg; September 26, 2008, Susp. | ......do | Do.
McGregor, City of, McLennan County | 480459 | April 7, 1975, Emerg; February 1, 1979, Reg; September 26, 2008, Susp. | ......do | Do.
McLendon-Chisholm, City of, Rockwall County | 480546 | February 21, 1997, Emerg; —, Reg; September 26, 2008, Susp. | ......do | Do.
McLennan County, Unincorporated Areas | 480456 | September 16, 1981, Emerg; September 16, 1981, Reg; September 26, 2008, Susp. | ......do | Do.
Morgan's Point Resort, City of, Bell County | 481525 | June 12, 2001, Emerg; —, Reg; September 26, 2008, Susp. | ......do | Do.
Parker County, Unincorporated Areas | 480520 | January 22, 1979, Emerg; September 27, 1991, Reg; September 26, 2008, Susp. | ......do | Do.
Robinson, City of, McLennan County | 480460 | December 26, 1978, Emerg; January 17, 1979, Reg; September 26, 2008, Susp. | ......do | Do.
Rockwall County, Unincorporated Areas | 480543 | May 19, 2001, Emerg; May 19, 2001, Reg; September 26, 2008, Susp. | ......do | Do.
Rollingwood, City of, Travis County | 481029 | February 3, 1975, Emerg; September 29, 1978, Reg; September 26, 2008, Susp. | ......do | Do.
Royse, City of, Rockwall County | 480548 | July 3, 1975, Emerg; July 16, 1980, Reg; September 26, 2008, Susp. | ......do | Do.
Salado, Village of, Bell County | 480033 | July 8, 2004, Emerg; July 8, 2004, Reg; September 26, 2008, Susp. | ......do | Do.
San Leanna, Village of, Travis County | 481305 | March 11, 1980, Emerg; March 11, 1980, Reg; September 26, 2008, Susp. | ......do | Do.
Sanctuary, City of, Parker County | 481285 | April 16, 1986, Emerg; November 1, 1989, Reg; September 26, 2008, Susp. | ......do | Do.
Smith County, Unincorporated Areas | 481185 | January 5, 1979, Emerg; July 2, 1981, Reg; September 26, 2008, Susp. | ......do | Do.
Sunset Valley, City of, Travis County | 481127 | November 24, 1975, Emerg; March 1, 1979, Reg; September 26, 2008, Susp. | ......do | Do.
Taylor, City of, Williamson County | 480670 | November 7, 1974, Emerg; March 1, 1982, Reg; September 26, 2008, Susp. | ......do | Do.
Thrall, City of, Williamson County | 481632 | September 6, 1991, Emerg; September 27, 1991, Reg; September 26, 2008, Susp. | ......do | Do.
Travis County, Unincorporated Areas | 481026 | January 29, 1976, Emerg; April 1, 1982, Reg; September 26, 2008, Susp. | ......do | Do.
Troup, City of, Smith County | 480570 | August 15, 1975, Emerg; January 23, 1979, Reg; September 26, 2008, Susp. | ......do | Do.
Troy, City of, Bell County | 480709 | July 20, 1977, Emerg; June 1, 1981, Reg; September 26, 2008, Susp. | ......do | Do.
Tyler, City of, Smith County | 480571 | August 5, 1974, Emerg; August 1, 1980, Reg; September 26, 2008, Susp. | ......do | Do.
Valley Mills, City of, McLennan County | 480054 | July 31, 1975, Emerg; November 15, 1979, Reg; September 26, 2008, Susp. | ......do | Do.
Waco, City of, McLennan County | 480461 | November 26, 1971, Emerg; November 2, 1977, Reg; September 26, 2008, Susp. | ......do | Do.
Weatherford, City of, Parker County | 480522 | September 13, 1974, Emerg; August 5, 1986, Reg; September 26, 2008, Susp. | ......do | Do.
Weir, City of, Williamson County | 481674 | April 19, 1996, Emerg; April 19, 1996, Reg; September 26, 2008, Susp. | ......do | Do.
Whitehouse, City of, Smith County | 480572 | June 25, 1975, Emerg; February 13, 1979, Reg; September 26, 2008, Susp. | ......do | Do.
Willow Park, City of, Parker County | 481164 | November 11, 1977, Emerg; March 18, 1987, Reg; September 26, 2008, Susp. | ......do | Do.
Woodway, City of, McLennan County | 480462 | January 28, 1975, Emerg; May 1, 1979, Reg; September 26, 2008, Susp. | ......do | Do.
Region IX
California:
Bell Gardens, City of, Angeles County | 060101 | September 27, 1991, Emerg; September 27, 1991, Reg; September 26, 2008, Susp. | ......do | Do.
Calexico, City of, Imperial County | 060067 | August 4, 1978, Emerg; January 20, 1982, Reg; September 26, 2008, Susp. | ......do | Do.
El Segundo, City of, Los Angeles County | 060118 | February 21, 1975, Emerg; May 25, 1978, Reg; September 26, 2008, Susp. | ......do | Do.
Imperial County, Unincorporated Areas | 060065 | October 14, 1975, Emerg; March 15, 1984, Reg; September 26, 2008, Susp. | ......do | Do.
La Mirada, City of, Los Angeles County | 060131 | August 7, 1975, Emerg; July 2, 1980, Reg; September 26, 2008, Susp. | ......do | Do.
Maricopa, City of, Kern County | 060079 | February 13, 1976, Emerg; September 24, 1984, Reg; September 26, 2008, Susp. | ......do | Do.
Napa County, Unincorporated Areas | 060205 | January 29, 1971, Emerg; February 1, 1980, Reg; September 26, 2008, Susp. | ......do | Do.
Redondo Beach, City of, Los Angeles County | 060150 | April 22, 1975, Emerg; September 15, 1983, Reg; September 26, 2008, Susp. | ......do | Do.
Santa Monica, City of, Los Angeles County | 060159 | September 8, 1975, Emerg; April 30, 1982, Reg; September 26, 2008, Susp. | ......do | Do.
Region X
Idaho: Kellogg, City of, Shoshone County | 160131 | June 26, 1974, Emerg; July 2, 1979, Reg; September 26, 2008, Susp. | ......do | Do.
Mullan, City of, Shoshone County | 160115 | May 13, 1975, Emerg; August 1, 1979, Reg; September 26, 2008, Susp. | ......do | Do.
Shoshone County, Unincorporated Areas | 160114 | April 9, 1974, Emerg; September 5, 1979, Reg; September 26, 2008, Susp. | ......do | Do.
Twin Falls, City of, Twin Falls County | 160120 | June 2, 1975, Emerg; November 1, 1984, Reg; September 26, 2008, Susp. | ......do | Do.
Twin Falls County, Unincorporated Areas | 160231 | February 25, 1999, Emerg; —, Reg; September 26, 2008, Susp. | ......do | Do.
Wallace, City of, Shoshone County | 160118 | May 15, 1974, Emerg; July 2, 1979, Reg; September 26, 2008, Susp. | ......do | Do.
*......do=Ditto.
Code for reading third column: Emerg.—Emergency; Reg.—Regular; Susp.—Suspension.

Dated: September 22, 2008.
Michael K. Buckley,
Acting Assistant Administrator, Mitigation Directorate, Federal Emergency Management Agency, Department of Homeland Security.

[FR Doc. E8-22953 Filed 9-29-08; 8:45 am]

BILLING CODE 9110-12-P